Proclamation 10634 of September 29, 2023

National Arts and Humanities Month, 2023

By the President of the United States of America

A Proclamation

During the throes of the American Revolution, General George Washington wrote a letter to the American Academy of Arts and Sciences saying, “The arts and sciences [are] essential to the prosperity of the State and . . . the ornament and happiness of human life.” His words are a reminder that, since our founding days, America's arts and humanities have helped tell the story of our Nation. They represent the freedom of expression that empowers Americans to speak and think independently and creatively. They build bridges of understanding by chronicling the shared experiences of hope, heartbreak, joy, and pain that help us see ourselves in one another. And they record and wrestle with the truth of our history while envisioning all the possibilities our future holds. During National Arts and Humanities Month, we celebrate all the artists and scholars whose works depict the rich, enduring soul of our Nation.

My Administration is committed to ensuring that appreciation of and access to the arts and humanities are within the reach of every American. My American Rescue Plan invested over $1 billion to help libraries, theaters, concert halls, and other venues, and we have invested hundreds of millions more into strengthening the National Endowment for the Arts (NEA) and the National Endowment for the Humanities (NEH). I also signed an Executive Order to make art more accessible to people from underserved communities, elevate new voices through the arts and humanities, and expand opportunities for artists and scholars.

In coordination with the White House United We Stand Summit, the NEH launched a new initiative titled “United We Stand: Connecting Through Culture” that leverages the arts and humanities to combat hate-motivated violence—utilizing the power of art to promote civic engagement and cultural understanding. This project helps reaffirm our Nation's central promise that hate will have no safe harbor in America. And we recently announced the top five awardees of Art x Climate—the first-ever call for visual art that will be featured in the fifth National Climate Assessment.

One of the greatest joys The First Lady and I have is the opportunity to celebrate the arts through performances and screenings here at the White House. Over the past two and a half years, we have held screenings of films, welcomed dancers to the state floor, and hosted musicians and poets whose performances captured our hearts and souls in a way that only artists can. And I have honored the indelible impact of incredible artists and scholars—from a poet and a painter to musicians and actors—by awarding National Humanities Medals and National Medals of Arts and by hosting Kennedy Center honorees here at the White House. Each of these artists are a testament to a larger truth: that we are a great Nation in large part because of the power of the arts and humanities, which is forever stamped into America's DNA.

During National Arts and Humanities Month, may we celebrate all the artists and scholars who have dared to reveal the good, bad, and truth of our Nation, and, in the process, have strengthened the covenant that is our democracy.

NOW, THEREFORE, I, JOSEPH R. BIDEN JR., President of the United States of America, by virtue of the authority vested in me by the Constitution and the laws of the United States, do hereby proclaim October 2023 as National Arts and Humanities Month. I call on the people of the United States to observe this month with appropriate programs, ceremonies, and celebrations.

IN WITNESS WHEREOF, I have hereunto set my hand this twenty-ninth day of September, in the year of our Lord two thousand twenty-three, and of the Independence of the United States of America the two hundred and forty-eighth.

[FR Doc. 2023-22222

Filed 10-3-23; 8:45 am]

Billing code 3395-F4-P